DEPARTMENT OF AGRICULTURE

Agricultural Marketing Service

Submission for OMB Review; Comment Request

June 23, 2016.

The Department of Agriculture will submit the following information collection requirement(s) to OMB for review and clearance under the Paperwork Reduction Act of 1995, Public Law 104-13 on or after the date of publication of this notice. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by July 28, 2016. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Federal Seed Act Program.

OMB Control Number: 0581-0026.

Summary of Collection: The Federal Seed Act (FSA) (7 U.S.C. 1551-1611) regulates agricultural and vegetable seeds in interstate commerce. Agricultural and vegetable seeds shipped in interstate commerce are required to be labeled with certain quality information such as the name of the seed, the purity, the germination, and the noxious-weed seeds of the state into which the seed is being shipped. State seed regulatory agencies refer to the Agricultural Marketing Service (AMS) complaints involving seed found to be mislabeled and to have moved in interstate commerce. AMS investigates the alleged violations and if the violation is substantiated, takes regulatory action ranging from letters of warning to monetary penalties. AMS will collect information from records of each lot of seed and make them available for inspection by agents of the Secretary.

Need and Use of the Information: The information collected consists of records pertaining to interstate shipments of seed which have been alleged to be in violation of the FSA. The shipper's records pertaining to a complaint are examined by FSA program specialists and are used to determine if a violation of the FSA occurred. The records are also used to determine if the precautions taken by the shipper assure that the seed was accurately labeled and determine the corrective steps that can be taken by the shipper to prevent future violations. The FSA program would be ineffective without the ability to examine pertinent records as necessary to resolve complaints of violations.

Description of Respondents: Business or other for-profit; Farm.

Number of Respondents: 3,245.

Frequency of Responses: Recordkeeping; Reporting: On occasion.

Total Burden Hours: 29,793.

Agricultural Marketing Service

Title: Regulations Governing Inspection Certification of Fresh and Processed Fruits, Vegetables and Other Products—7 CFR part 51 and 52.

OMB Control Number: 0581-0125.

Summary of Collection: The Agricultural Marketing Act of 1946 as amended, (7 U.S.C. 1621-1627) directs and authorizes the Secretary of Agriculture to inspect, certify and identify the class, quantity, quality and condition of agricultural produces when shipped or received in interstate commerce, under such rules and regulations as the Secretary may prescribe, etc. The Secretary has delegated this authority to the AMS Specialty Crops Inspection Division (SCI). The SCI Division provides nationwide audit and inspection services for fresh and processed fruits, vegetables, and other products to growers, shippers, importers, processors, sellers, buyers, and other financially interested parties on a “user fee” basis.

Approved collection “Specialty Crop Inspection Division Order Forms” 0581-0292 is being merged into and totals for both collections are combined in this renewal request. With this submission and merging of the two approved collections, the Division will be better able to efficiently manage the collection and prevent duplication of burden.

Need and Use of the Information: The SCI Division collects information using various forms. This information includes: The name and location of the person or company shipping and receiving the product(s), the name and location of the person or company requesting the inspection, the date and time the inspection is requested to be performed, the type and location of the product to be inspected, the type of inspection being requested and any information that will identify the product. The information collected provides services for inspection, grading, certification purposes, and other services to facilitate trading of agricultural products, e.g., providing import product inspections, export product inspections, contract and specification acceptance services, facility assessments, and certification of quantity and quality; verification and auditing; and developing standards for grades of products.

Description of Respondents: Business or other for profit.

Number of Respondents: 58,314.

Frequency of Responses: Reporting: On occasion.

Total Burden Hours: 25,283.

Agricultural Marketing Service

Title: Seed Service Testing Program.

OMB Control Number: 0581-0140.

Summary of Collection: The Agricultural Marketing Act (AMA) of 1946, as amended by 7 U.S.C. 1621 authorizes the Secretary to inspect and certify the quality of agricultural products and collect such fees as reasonable to cover the cost of service rendered. The purpose of the voluntary program is to promote efficient, orderly marketing of seeds and assist in the development of new and expanding markets. Under the program, samples of agricultural and vegetable seeds submitted to the Agricultural Marketing Service (AMS) are tested for factors such as purity and germination at the request of the applicant for the service. The Testing Section of the Seed Regulatory and Testing Branch of AMS that test the seed and issues the certificates is the only Federal seed testing facility that can issue the Federal Seed Analysis Certificate.

Need and Use of the Information: Applicants generally are seed firms who use the seed analysis certificates to represent the quality of seed lots to foreign customers according to the terms specified in contracts of trade. The only information collected is information needed to provide the service requested by the applicant. Applicants must provide information such as the kind and quantity of seed, tests to be performed, and seed treatment if present, along with a sample of seed in order for AMS to provide the service. A Seed Analysis Certificate-Sample Inspection LS-375 or ISTA Orange International Seed Lot Certificate is issued by AMS giving the test results. Only authorized AMS employees will use the information collected to track, test, and report test results to the applicant. If the information were not collected, AMS would not know which test to conduct or would not be able to relate the test results with a specific lot of seed.

Description of Respondents: Business or other for-profit; Farms; State, Local or Tribal Government.

Number of Respondents: 55.

Frequency of Responses: Reporting; On occasion.

Total Burden Hours: 315.

Ruth Brown,
Departmental Information Collection Clearance Officer.

[FR Doc. 2016-15199 Filed 6-27-16; 8:45 am]

BILLING CODE 3410-02-P